DEPARTMENT OF COMMERCE

International Trade Administration

[A-122-838]

Certain Softwood Lumber Products from Canada: Notice of Rescission of Antidumping Duty New Shipper Review

AGENCY: Import Administration, International Trade Administration, Department of Commerce.

EFFECTIVE DATE: April 20, 2006.

SUMMARY: On December 28, 2005, the Department of Commerce (the Department) published in the Federal Register (70 FR 76774) a notice announcing the initiation of a new shipper review of the antidumping duty order on certain softwood lumber products from Canada, covering the period May 1, 2005, to October 31, 2005. The review covers International Forest Products Corporation (IFP Corp.). We are now rescinding this review as a result of our determination that IFP Corp. was not the first party in the chain of distribution with knowledge that the merchandise was destined for the United States.

FOR FURTHER INFORMATION CONTACT: David Layton or Constance Handley at (202) 482-0371 or (202) 482-0631, respectively, AD/CVD Operations, Office 1, Import Administration, International Trade Administration, U.S. Department of Commerce, 14th Street & Constitution Avenue, NW., Washington, DC 20230.

SUPPLEMENTARY INFORMATION:

Background

On November 28, 2005, the Department received a request to conduct a new shipper review of the antidumping duty (AD) order on certain softwood lumber from Canada. On December 21, 2005, the Department initiated this new shipper antidumping review covering the period May 1, 2005, to October 31, 2005. See Certain Softwood Lumber Products from Canada: Notice of Initiation of Antidumping Duty New Shipper Review, 70 FR 76774 (December 28, 2005). In that notice the Department stated that it intended to solicit and carefully examine information concerning the first party in the chain of distribution with knowledge of U.S. destination.

On January 5, 2006, the Department issued a letter to the respondent, IFP Corp., to solicit this information. IFP Corp. responded on January 11, 2006. On February 6, 2006, the Department issued a memorandum expressing its intent to rescind the new shipper review. See memorandum from Constance Handley, Program Manager to Susan H. Kuhbach, Director, Office 1, re: New Shipper Review: Intent to rescind the Review of International Forest Products Corporation (Rescission Memo). On February 24, 2006, the Department received comments from IFP Corp.

Analysis of Comments Received

In the Rescission Memo, the Department expressed its intent to rescind the review, because IFP Corp., the company from which the request for review had been received, was not the first party in the chain of distribution with knowledge that the merchandise was destined for the United States. Information provided by the producer, Terrace Lumber Company (Terrace), indicated that it had knowledge that the merchandise was destined for the United States. IFP Corp. does not dispute that Terrace was aware that its lumber was destined for the United States. However, it argues that the review request was intended to be for Terrace as well as for IFP.

According to IFP Corp., the request was made “on behalf” of IFP Corp. because, by agreement with Terrace, IFP Corp. was responsible for paying the legal fees incurred in participating in the review. IFP Corp. maintains that it clearly identified Terrace as the producer and as one of the two requesters on the front of the petition and in the supporting documents. IFP Corp. distinguishes this case from Pasta from Italy and Garlic from the PRC¹ in that in those cases, no request was made to review the producer's sales. Finally, IFP Corp. argues that Terrace's only sales are to IFP Corp., and therefore, the only sales of Terrace's which could be reviewed are sales to IFP and the only post-tariff sales to U.S. customers for review are from IFP.

¹ See Certain Pasta From Italy: Termination of New Shipper Antidumping Duty Administrative Review, 62 FR 66602 (December 19, 1997); see also Fresh Garlic from the People's Republic of China; Preliminary Results of Antidumping Duty Administrative Review and Partial Termination of Administrative Review.

Section 751(a)(2)(B)(i) of the Tariff Act of 1930, as amended (the Act), provides that the Department will conduct a new shipper review if it receives a request from an exporter or producer of the subject merchandise. We disagree with IFP Corp.'s contention that the request for this review was received from both IFP Corp. and Terrace. The letter submitted to the Department states “On behalf of International Forest Products Corporation, we submit the attached request for new shipper review . . .” In the same paragraph it goes on to state “IFP {Corp.} requests a new shipper review. . .” Although Terrace is identified as the producer in the request, nowhere in the document does it specifically state that a review is being requested for Terrace. On the cover page to the request, and on page 4, IFP Corp. is clearly identified as the “exporter and requester” and Terrace as the “producer.” In addition, the request specifically identifies IFP Corp.'s first sale of Terrace-produced lumber to IFP Corp.'s customer and provides an invoice for that sale, further indicating that IFP Corp. was requesting a review of its sales to its customers. Section 751(a)(2)(B)(i) of the Act and the Department's regulations at 351.214(b) specify that an exporter may request a new shipper review. IFP Corp. made the request for this review, and the Department initiated a review based on that request from IFP Corp. However, the relevant sale for the purposes of conducting an antidumping duty review, is the sale from Terrace to IFP Corp., not the sale from IFP Corp. to its customer. Therefore, IFP Corp. does not qualify for a new shipper review and, accordingly, we are rescinding the review at this time.

Rescission of New Shipper Review

For the reasons stated in the Rescission Memo and as outlined above, and pursuant to section 751(a)(2)(B) of the Act and 19 CFR 351.214(f), we are rescinding this new shipper review.

Notification

Bonding is no longer permitted to fulfill security requirements for shipments of certain softwood lumber products from Canada produced and exported by IFP Corp., entered, or withdrawn from warehouse, for consumption in the United States on or after the publication of this rescission notice in the Federal Register.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is issued and published in accordance with sections 751(a)(2)(B)(iv) and 777(i) of the Act and 19 CFR 351.214(f)(3).

Dated: April 13, 2006.
David M. Spooner,
Assistant Secretary for Import Administration.

[FR Doc. E6-5949 Filed 4-19-06; 8:45 am]

BILLING CODE 3510-DS-S